INTERNATIONAL TRADE COMMISSION

[Investigation No. 337-TA-602]

In the Matter of Certain GPS Devices and Products Containing Same; Notice of Commission Determination To Extend the Deadline for Receiving Written Submissions on Remedy, the Public Interest and Bonding; Extension of Target Date

AGENCY: U.S. International Trade Commission.

ACTION: Notice.

SUMMARY: Notice is hereby given that the U.S. International Trade Commission has determined to extend the deadline for receiving written submissions on remedy, the public interest, and bonding until two weeks from the date of issuance of the public version of the presiding administrative law judge's (ALJ) recommended determination on remedy and bonding (“RD”) and to extend the target date in the above-captioned investigation by thirty (30) days.

FOR FURTHER INFORMATION CONTACT: Daniel E. Valencia, Office of the General Counsel, U.S. International Trade Commission, 500 E Street, SW., Washington, DC 20436, telephone (202) 205-1999. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on May 7, 2007, based on a complaint filed by Global Locate, Inc. (“Global Locate”). 72 FR 25777 (May 7, 2007). The complaint alleged violations of section 337 of the Tariff Act of 1930 (19 U.S.C. 1337) in the importation into the United States, the sale for importation, and the sale within the United States after importation of certain GPS (Global Positioning System) devices and products containing the same by reason of infringement of various United States patents. The complaint named five respondents: SiRF Technology, Inc.; Pharos Science & Applications, Inc.; MiTAC International Corp.; Mio Technology Ltd., USA; and E-TEN Information Systems Co., Ltd. The notice of investigation was subsequently amended to add Broadcom Corporation as a complainant inasmuch as Broadcom acquired Global Locate.

On August 8, 2008, the ALJ issued his final initial determination (“ID”), and on August 22, 2008, he issued his RD. In his ID, the ALJ found a violation of section 337 in the importation and the sale after importation of certain GPS devices and products containing the same. On October 9, 2008, after considering petitions for review, the Commission determined to review the ALJ's ID in part. 73 FR 61169 (October 15, 2008). The Commission requested written submissions on certain issues relating to violation as well as remedy, the public interest, and bonding. The Commission set a deadline of October 27, 2008 for written submissions, and November 3, 2008 for reply submissions.

In light of the Federal Circuit's recent decision in Kyocera Wireless Corp. v. ITC, 2008 U.S. App. LEXIS 21505 (Fed. Cir. Oct. 14, 2008) and the fact that the ALJ has not yet issued a public version of his RD, the Commission has determined to extend the deadline for receiving initial written submissions on remedy, the public interest, and bonding until two weeks from the date of issuance of the public version of the ALJ's RD. Complainants and the IA are also requested to submit proposed remedial orders for the Commission's consideration by the extended deadline. The Commission has also determined to extend the deadline for reply submissions on remedy, the public interest, and bonding until ten (10) days after the filing date of the initial written submissions. The parties' deadline for written submissions on issues relating to violation of section 337 has not been extended by the Commission.

Persons filing written submissions must file the original document and 12 true copies thereof on or before the deadlines stated above with the Office of the Secretary. Any person desiring to submit a document to the Commission in confidence must request confidential treatment unless the information has already been granted such treatment during the proceedings. All such requests should be directed to the Secretary of the Commission and must include a full statement of the reasons why the Commission should grant such treatment. See 19 CFR 210.6. Documents for which confidential treatment by the Commission is sought will be treated accordingly. All nonconfidential written submissions will be available for public inspection at the Office of the Secretary.

The Commission has also determined to extend the target date (December 8, 2008) of the above-referenced investigation by thirty (30) days.

The authority for the Commission's determination is contained in section 337 of the Tariff Act of 1930, as amended (19 U.S.C. 1337), and in section 210.51(a) of the Commission's Rules of Practice and Procedure (19 CFR 210.51(a)).

By order of the Commission.
Issued: October 21, 2008.
Marilyn R. Abbott,
Secretary to the Commission.

[FR Doc. E8-25404 Filed 10-23-08; 8:45 am]

BILLING CODE 7020-02-P